DEPARTMENT OF AGRICULTURE

Rural Business-Cooperative Service

Notice of a Public Meeting on the Agriculture Innovation Center Demonstration Program

AGENCY: Rural Business-Cooperative Service, USDA.

ACTION: Notice of public meeting.

SUMMARY: This Notice is to notify entities concerned with agricultural value-added marketing issues and other interested persons that the Rural Business-Cooperative Service (RBS) is holding a public meeting for interested persons to express their views on implementing the Agriculture Innovation Center Demonstration Program to assist U.S. agricultural producers.

DATES: The meeting will be held on July 31, 2002, starting at 9 a.m. eastern time, with registration at 8 a.m. The public meeting will end at 4:30 p.m. unless concluded earlier.

ADDRESSES: The meeting will be held in Room 107-A, Jamie Whitten Building, U.S. Department of Agriculture, 1400 Independence Avenue, SW., Washington, DC. Those interested in making a presentation at the meeting should send a written request to Wendy Dotson, Office of the Deputy Administrator for Cooperative Services, Room 4016, Stop 3250, 1400 Independence Avenue SW., Washington, DC 20250-3250.

FOR FURTHER INFORMATION CONTACT: John Dunn, Director, Cooperative Management Resource Division, RBS, Room 4206-S, Stop 3256, 1400 Independence Avenue, SW., Washington, DC 20250-3256, Telephone: 202-690-1374.

SUPPLEMENTARY INFORMATION: The meeting will be conducted by representatives of the Department of Agriculture. The information from the meeting will be considered in implementing provisions of the Farm Security and Rural Investment Act of 2002 (Pub. L. 107-171) concerning the Agriculture Innovation Center Demonstration Program (section 6402). The purpose of the meeting is to provide background information for consideration in the implementation and administration of this program.

RBS is particularly interested in receiving comments on the following specific issues as they relate to agriculture innovation centers:

1. Focus of work by the proposed innovation centers—The relative importance of (a) technical assistance, engineering services, applied research, scale production, etc., (b) assistance in marketing, market development, and business planning, and (c) organization, outreach, and development assistance. What is the appropriate mix of each?

2. Viable methods of raising the equity capital necessary for many producer-owned value-added ventures. How can assistance to agricultural producers best be structured for this purpose?

3. How the innovation centers might best coordinate with existing technical assistance, business advisory, and organizational assistance providers.

4. How to meet the demand for value-added assistance in traditional crop and livestock value-added enterprises as well as newer, unique niche opportunities.

5. The desirability of the entity having the required assistance expertise in-house versus contracting out for that expertise.

6. Suggestions for criteria for scoring and selecting proposals that accomplish innovation center objectives.

To schedule oral testimony for the public meeting, notify Ms. Dotson, in writing, at the above address. Requests may be sent by facsimile to (202) 720-4641 or e-mail to wendy.dotson@usda.gov. Those who wish to make oral presentations must restrict presentations to 15 minutes and are also encouraged to have written copies of their complete comments, including exhibits, for inclusion the Agency's record. Written copies should also be sent to Ms. Dotson in advance of the meeting. Those who register their attendance at the public meeting, but have not been scheduled in advance to present oral testimony, will be given an opportunity to do so if time permits. Otherwise, the opportunity will be given to submit their views in writing by August 6, 2002. Participants who require a sign language interpreter or other special accommodations should contact Ms. Wendy Dotson as directed above.

Copies of the presentations will not be available for distribution from the Department. However, they will be available for public inspection in Room 4206 South Building, 1400 Independence Avenue, SW., Washington, DC, during regular business hours, 8:00-4:30 EDT.

Dated: July 5, 2002.
John Rosso,
Administrator, Rural Business-Cooperative Service.

[FR Doc. 02-17408 Filed 7-10-02; 8:45 am]

BILLING CODE 3410-XY-P